DEPARTMENT OF THE INTERIOR

National Park Service

Final Legislative Environmental Impact Statement for the Harvest of Glaucous-Winged Gull Eggs by the Huna Tlingit in Glacier Bay National Park

AGENCY: National Park Service, Interior.

ACTION: Notice of Availability of the Final Legislative Environmental Impact Statement for the Harvest of Glaucous-Winged Gull Eggs by the Huna Tlingit in Glacier Bay National Park.

SUMMARY: The National Park Service (NPS) announces the availability of a final Legislative Environmental Impact Statement (LEIS) for the harvest of glaucous-winged gull eggs by the Huna Tlingit in Glacier Bay National Park. The document describes and analyzes the environmental impacts of a preferred alternative and one additional action alternative for managing a limited harvest of glaucous-winged gull eggs. A no action alternative is also evaluated. This notice announces the availability of the final LEIS.

DATES: A Record of Decision will be made no sooner than 30 days after the date the Environmental Protection Agency's Notice of Availability for this final LEIS appears in the Federal Register.

ADDRESSES: The final LEIS may be viewed online at http://parkplanning.nps.gov. Hard copies of the final LEIS are available on request from the address below.

FOR FURTHER INFORMATION CONTACT: Mary Beth Moss, Project Manager, Glacier Bay National Park and Preserve, Telephone: (907) 723-1777.

SUPPLEMENTARY INFORMATION: The NPS has prepared an LEIS to analyze the effects of authorizing the limited collection of glaucous-winged gull eggs within Glacier Bay National Park by Hoonah Indian Association (HIA; the federally recognized government of the Huna Tlingit) tribal members. Glacier Bay is the traditional homeland of the Huna Tlingit who traditionally harvested eggs there prior to park establishment. The practice was curtailed in the 1960s, as the Migratory Bird Treaty Act and federal regulations prohibit it. In the late 1990s, at the behest of tribal leaders, the NPS agreed to explore ways to authorize this important cultural tradition. Section 4 of the Glacier Bay National Park Resource Management Act of 2000 directed the Secretary of Interior, in consultation with local residents, to assess whether gull eggs could be collected in Glacier Bay National Park on a limited basis without impairing the biological sustainability of the gull population. The Act further requires that the Secretary submit recommendations for legislation to Congress if the study determines that gull egg harvest could occur without impairing the biological sustainability of the park's gull population. NPS commissioned ethnographic and biological studies to inform the analysis included in this LEIS.

The NPS outlined a range of alternatives based on project objectives, park resources and values, and public input and analyzed the impacts each would have on the biological and human environment.

Alternative 1: No Action: This alternative serves as a baseline for evaluating the impacts of the action alternatives. This alternative would not authorize the harvest of glaucous-winged gull eggs in Glacier Bay National Park. Glaucous-winged gulls would continue to breed in Glacier Bay without human disturbance.

Alternative 2: This alternative would propose legislation to authorize the annual harvest of glaucous-winged gull eggs at up to two designated locations on a single pre-selected date on or before June 9 of each year.

Alternative 3: NPS Preferred Alternative: Alternative 3 would propose legislation to authorize the annual harvest of glaucous-winged gull eggs at up to five designated locations in Glacier Bay National Park on two separate dates. A first harvest visit would be authorized to occur at each of the open sites on or before the 5th day following onset of laying as determined by NPS staff monitoring a reference site. A second harvest at the same sites would be authorized to occur within nine days of the first harvest.

Both action alternatives would manage harvest activities under the guidelines of a harvest management plan cooperatively developed by the NPS and the HIA. NPS would conduct monitoring activities to ensure that park resources and values were not impacted. The Superintendent would retain the authority to close gull colonies to harvest.

Victor W. Knox,
Acting Regional Director, Alaska.

[FR Doc. 2010-12608 Filed 5-25-10; 8:45 am]

BILLING CODE 4312-HX-P